DEPARTMENT OF AGRICULTURE

Grain Inspection, Packers and Stockyards Administration

[06-IN-A]

Purchase of Schneider (IN) and Amendment to the Champaign (IL) Area

AGENCY: Grain Inspection, Packers and Stockyards Administration, USDA.

ACTION: Notice.

SUMMARY: Grain Inspection, Packers and Stockyards Administration (GIPSA) designated Schneider Inspection Service, Inc. (Schneider), to provide domestic official inspection services under the United States Grain Standards Act, as amended (Act). Schneider's designation terminates June 30, 2006, therefore, GIPSA asked interested persons to submit an application for designation in the December 1, 2005, Federal Register (70 FR 72104). However, Champaign-Danville Grain Inspection Departments, Inc. (Champaign), a currently designated agency providing official inspection services, is purchasing Schneider. Subsequently, GIPSA is not proceeding further with the request for applications for designation in the Lake Village, Indiana, area, which is currently designated to Schneider. The designation of Champaign has been amended to include this geographic area.

DATES: Effective date April 1, 2006

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

Section 7(f)(1) of the Act authorizes GIPSA's Administrator to designate a qualified applicant to provide official services in a specified area after determining that the applicant is better able than any other applicant to provide such official services. GIPSA designated Schneider, headquarters in Lake Village, Indiana, to provide official inspection services under the Act effective July 1, 2005, and terminating June 30, 2006.

Section 7(g)(1) of the Act provides that designations of official agencies will end not later than triennially and may be renewed according to the criteria and procedures prescribed in Section 7(f) of the Act. Schneider's designation ends June 30, 2006, according to the Act. In the December 1, 2005, Federal Register (70 FR 72104), GIPSA asked persons interested in providing official services in the areas served by Schneider to submit an application for designation. However, Champaign advised GIPSA that they are purchasing Schneider. Accordingly, GIPSA is not proceeding further with the request for applications for designation published in the December 1, 2005, Federal Register. GIPSA is amending Champaign's designation due to the purchase of the formerly designated Schneider.

Pursuant to Section 7(f)(2) of the Act, the following geographic area, in the States of Illinois, Indiana, and Michigan, will now be assigned to Champaign.

In Illinois and Indiana:

Bounded on the North by the northern Will County line from Interstate 57 east to the Illinois-Indiana State line; the Illinois-Indiana State line north to the northern Lake County line; the northern Lake, Porter, Laporte, St. Joseph, and Elkhart County lines;

Bounded on the East by the eastern and southern Elkhart County lines; the eastern Marshall County line;

Bounded on the South by the southern Marshall and Starke County lines; the eastern Jasper County line south-southwest to U.S. Route 24; U.S. Route 24 west to Indiana State Route 55; Indiana State Route 55 south to the Newton County line; the southern Newton County line west to U.S. Route 41; U.S. Route 41 north to U.S. Route 24; U.S. Route 24 west to the Indiana-Illinois State line; and

Bounded on the West by Indiana-Illinois State line north to Kankakee County; the southern Kankakee County line west to U.S. Route 52; U.S. Route 52 north to Interstate 57; Interstate 57 north to the northern Will County line.

Berrien, Cass, and St. Joseph Counties, Michigan:

Champaign's assigned geographic area does not include the export port locations inside Schneider's former area which are serviced by GIPSA.

Effective April 1, 2006, Champaign's present geographic area is amended to include part of Illinois, Indiana, and Michigan. Champaign's current designation to provide official inspection services terminates March 31, 2007. Official services may be obtained by contacting Champaign at 217-398-0723.

Authority: Pub. L. 94-582, 90 Stat. 2867, as amended (7 U.S.C. 71 et seq.).

James E. Link,
Administrator, Grain Inspection, Packers and Stockyards Administration.

[FR Doc. E6-2798 Filed 2-28-06; 8:45 am]

BILLING CODE 3410-EN-P